DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroad has petitioned the Federal Railroad Administration (FRA) seeking approval for the discontinuance or modification of the signal system or relief from the requirements of 49 CFR part 236, as detailed below.

Docket Number FRA-2010-0134

Applicant: Mr. James V. Samuelson, Deputy General Manger—Safety & Training, New Jersey Transit, One Penn Plaza East, Newark, New Jersey 07105-2246.

The New Jersey Transit (NJT) seeks relief from the 2 year periodic testing requirements of the Rules, Standards, and Instructions, Title 49 CFR part 236, §§ 236.377 Approach Locking, 236.378 Time Locking, 236.379 Route Locking, 236.380 Indication Locking, and 236.381 Traffic Locking, on vital microprocessor-based systems. NJT proposes to verify and test signal locking systems controlled by microprocessor-based equipment by use of alternative procedures every 4 years after initial baseline testing or program change as follows:

• Verification of the Cyclic Redundancy Check (CRC)/Check Sum/Universal Control Number (UNC) of the existing location's specific application logic to the previously tested version.

• Testing the appropriate interconnection to associated signaling hardware equipment outside the processor (switch indication, track indication, signal indication, approach locking (if external)) to verify correct and intended inputs to and outputs from the processor are maintained.

• Analyzing and comparing the results of the 4 year alternative testing with the results of the baseline testing performed at the location and submit the results to FRA.

• All records of locking tests will identify the method used (i.e., conventional, baseline, or subsequent alternative method).

Applicant's justification for relief: Many of NJT's interlocking, controlled points and other locations are controlled by solid-state vital microprocessor-based systems. These systems utilize programmed logic equations in lieu of relays and other mechanical components for control of both vital and non-vital functions. The logic does not change once a microprocessor-based system has been tested. Locking tests are documented on installation.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0134) and may be submitted by any of the following methods:

• Web site: http://www.regulations.gov. Follow the online instructions for submitting comments.

• Fax: 202-493-2251.

• Mail: Docket Operations Facility, U.S. Department of Transportation, 1200 New Jersey Avenue, SE., Room W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on August 30, 2010.
Robert C. Lauby,
Deputy Associate Administrator for Regulatory and Legislative Operations.

[FR Doc. 2010-22006 Filed 9-2-10; 8:45 am]

BILLING CODE 4910-06-P